DEPARTMENT OF COMMERCE

National Institute of Standards and Technology

[Docket No. 060321081-6081-01]

Privacy Act of 1974: System of Records

AGENCY: Department of Commerce, National Institute of Standards and Technology.

ACTION: Notice of Amendment of Privacy Act System of Records: COMMERCE/NIST-4, Employees External Radiation Exposure Records

SUMMARY: In accordance with the Privacy Act of 1974, as amended, 5 U.S.C.§ 552a(e)(4) and (11), the Department of Commerce is issuing notice of intent to amend the system of records under COMMERCE/NIST-4, Employees External Radiation Exposure Records to include the name change of the National Bureau of Standards (NBS) to the National Institute of Standards and Technology (NIST); update internal organizational unit names, contacts, locations; and reflect more current system descriptions.

DATES: To be considered, written comments must be submitted on or before July 2, 2007. Unless comments are received, the amendments to the system of records will become effective as proposed on the date of publication of a subsequent notice in the Federal Register.

FOR FURTHER INFORMATION CONTACT: Timothy F. Mengers, Health Physics Group, Occupational Health and Safety Division, National Institute of Standards and Technology, Gaithersburg, MD 20899-3541, 301-975-5800.

SUPPLEMENTARY INFORMATION: In 1989 the name of the National Bureau of Standards (NBS) was changed to the National Institute of Standards and Technology (NIST). This system is updated to reflect that name change, along with updating internal organizational unit names; contacts; locations; and system descriptions.

COMMERCE/NIST-4

System Name:

Employees External Radiation Exposure Records.

Security Classification:

None.

System Location:

Health Physics Group, Occupational Health and Safety Division, National Institute of Standards and Technology, Gaithersburg, MD 20899-3541.

Categories of Individuals Covered by the System:

Individuals working with radioactive materials and machines who may be exposed to ionizing radiation, including employees, contractors, and visiting scientists.

Categories of Records in the System:

Name, social security number (voluntary), date of birth, organizational unit number, and amount of radiation received.

Authority for Maintenance of the System:

42 U.S.C. 2201 and 10 CFR 20.2106.

Purpose(s):

All Nuclear Regulatory Commission (NRC) licensees are required to monitor occupational exposure to radiation and to maintain individual and collective dose records for that exposure. This information will assist NIST's compliance with NRC regulations under 10 CFR 20.2106 “Records of Individual Monitoring Results.” This data is used to document compliance with the dose limits specified in the regulations and is analyzed to adjust practices and policies to maintain risks as low as reasonably achievable.

Routine Uses of Records Maintained in the System, Including Categories of Users and the Purposes of Such Uses:

These records or information contained therein may specifically be disclosed as a routine use as follows:

1. Dosimeters are sent monthly or quarterly to the U.S. Army or the U.S. Navy (depending on the type of dosimeter issued) for a determination of amount of radiation exposure. Information involving exposure levels, incidents, and amounts of overexposure is required to be submitted to the Nuclear Regulatory Commission. In the event of serious exposure, information would be disclosed to the Bethesda (Maryland) Naval Medical Center, employee's family physician, and other appropriate medical authorities.

2. Data is provided to the Nuclear Regulatory Commission for inclusion in their system of records designated as NRC-27 and in aggregate form to other Federal and State regulators having jurisdiction over ionizing radiation safety as necessary to shape policies and decisions.

3. In the event that a record in this system of records indicates a violation or potential violation of law or contract, whether civil, criminal, or regulatory in nature, and whether arising by general statute or particular program statute or contract, or rule, regulation, or order issued pursuant thereto, or the necessity to protect an interest of the Department, the relevant records in the system of records may be referred to the appropriate agency, whether federal, state, local, or foreign, charged with the responsibility of investigating or prosecuting such violation or charged with enforcing or implementing the statute or contract, rule, regulation, or order issued pursuant thereto, or protecting the interest of the Department.

4. A record from this system of records may be disclosed to a federal, state, local or international agency in response to its request in connection with the assignment, hiring, or retention of an individual, the issuance of a security clearance, the reporting of an investigation of an individual, the letting of a contract, or the issuance of a license, grant, or other benefit by the requesting agency, to the extent that the information is relevant and necessary to the requesting agency's decision on the matter.

5. A record from this system of records may be disclosed in the course of presenting evidence to a court, magistrate, or administrative tribunal, including disclosures to opposing counsel in the course of settlement negotiations.

6. A record in this system of records may be disclosed to a Member of Congress submitting a request involving an individual when the individual has requested assistance from the Member with respect to the subject matter of the record.

7. A record in this system of records may be disclosed to the Department of Justice in connection with determining whether disclosure thereof is required by the Freedom of Information Act (5 U.S.C. 552).

Policies and Practices for Storing, Retrieving, Accessing, Retaining, and Disposing of Records in the System:

Storage:

Paper records in file folders, microfilm, and electronic records.

Retrievability:

The records are retrieved by name, social security number, or other personal identifier.

Safeguards:

Paper and microfilm records are stored in locked metal file cabinets.

Access to paper, microfilm and electronic records is limited to those whose official duties require access.

Retention and Disposal:

Records are retained indefinitely.

System Manager(s) and Address:

Chief, Health Physics Group, Occupational Health and Safety Division, National Institute of Standards and Technology, Gaithersburg, MD 20899-3541.

Notification Procedure:

Information may be obtained from: Chief, Management and Organization Division, National Institute of Standards and Technology, Gaithersburg, MD 20899-3220. Requester should provide name and additional factual data, as appropriate, pursuant to the inquiry provisions of the Department's rules, which appear in 15 CFR part 4.

Records Access Procedures:

Requests for individuals listed in the database should be addressed to: Health Physics Group Leader, Occupational Health and Safety Division, National Institute of Standards and Technology, Gaithersburg, MD 20899-3541.

Contesting Records Procedures:

The Department's rules for access, for contesting contents, and appealing initial determinations by the individual concerned appear in 15 CFR part 4. Use above address.

Records Source Categories:

Per regulatory requirements, individuals will be notified annually of their exposure reports if they receive greater than one-tenth the regulatory limit. Furthermore, a copy of their records will be provided to any organization upon written authorization and signature by the individual in question.

Exemptions Claimed for the System:

None.

Dated: May 24, 2007.
Brenda Dolan,
Department of Commerce, Freedom of Information/Privacy Act Officer.

[FR Doc. E7-10591 Filed 5-31-07; 8:45 am]

BILLING CODE 3510-13-P